DEPARTMENT OF TRANSPORTATION

Federal Aviation Administration

14 CFR Part 71

[Docket No. FAA-2012-0966; Airspace Docket No. 12-AWA-5]

RIN 2120-AA66

Proposed Modification of Class B Airspace; Las Vegas, NV

AGENCY: Federal Aviation Administration (FAA), DOT.

ACTION: Notice of proposed rulemaking (NPRM); Reopening of comment period.

SUMMARY: This action reopens the comment period for an NPRM that was published on October 26, 2012. In that document, the FAA proposed to modify the Las Vegas, NV, Class B airspace area to ensure the containment of large turbine-powered aircraft within Class B airspace.

DATES: The comment period for the NPRM published in the Federal Register on October 26, 2012 (77 FR 65332) closed on December 26, 2012, is reopened until February 13, 2013.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2012-0966 and Airspace Docket No. 12-AWA-5, at the beginning of your comments. You may also submit comments through the Internet at http://www.regulations.gov.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2012-0966 and Airspace Docket No. 12-AWA-5) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to Docket Nos. FAA-2012-0966 and Airspace Docket No. 12-AWA-5.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://www.regulations.gov.

You may review the public docket containing the proposal, any comments received, and any final disposition in person in the Dockets Office (see ADDRESSES section for address and phone number) between 9:00 a.m. and 5.00 p.m., Monday through Friday, except Federal holidays. An informal docket may also be examined during normal business hours at the office of the Western Service Center, Operations Support Group, Federal Aviation Administration, 1601 Lind Ave. SW., Renton, WA 98057.

Persons interested in being placed on a mailing list for future NPRMs should contact the FAA's Office of Rulemaking, (202) 267-9677, for a copy of Advisory Circular No. 11-2A, Notice of Proposed Rulemaking Distribution System, which describes the application procedure.

Background

In the Federal Register of October 26, 2012, the FAA issued a NPRM entitled “Proposed Modification of Class B Airspace; Las Vegas, NV” (77 FR 65332). The FAA requested that comments on that proposal be received on or before December 26, 2012. By letter dated December 7, 2012, the Aircraft Owners and Pilots Association (AOPA) requested that the FAA extend the comment period for at least 30 days. AOPA stated that the original comment period encompassed two Federal holidays and that no comments had been posted to the docket as of the date of their letter. AOPA added that an extension would provide additional time for the public to review the NPRM and submit substantive comments on the proposal.

Reopening of Comment Period

The FAA has reviewed AOPA's request for additional time to comment on the NPRM and has determined that reopening of the comment period is consistent with the public interest and that good cause exists for taking this action.

Accordingly, the comment period for Docket No. FAA-2012-0966; Airspace Docket No. 12-AWA-5, is reopened as indicated in the DATES section, above.

Issued in Washington, DC, on January 8, 2013.
Gary A. Norek,
Manager, Airspace Policy and ATC Procedures Group.

[FR Doc. 2013-00646 Filed 1-10-13; 4:15 pm]

BILLING CODE P